NUCLEAR REGULATORY COMMISSION

[NRC-2020-0001]

Sunshine Act Meetings

TIME AND DATE: Week of August 30, 2021.

PLACE: Via Teleconference.

STATUS: Open.

Week of August 30, 2021

Tuesday, August 31, 2021

11:30 a.m. Affirmation Session (Public Meeting) (Tentative), FirstEnergy Companies and TMI-2 Solutions, LLC (Three Mile Island Nuclear Station, Unit 2), Petition for Reconsideration of CLI-21-8 (Tentative), (Contact: Wesley Held: 301-287-3591)

Additional Information: Due to COVID-19, there will be no physical public attendance. The public is invited to attend the Commission's meeting live; via teleconference. Details for joining the teleconference in listen only mode at https://www.nrc.gov/pmns/mtg.

CONTACT PERSON FOR MORE INFORMATION: For more information or to verify the status of meetings, contact Wesley Held at 301-287-3591 or via email at Wesley.Held@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555 (301-415-1969), or by email at Wendy.Moore@nrc.gov or Betty.Thweatt@@nrc.gov.

The NRC is holding the meetings under the authority of the Government in the Sunshine Act, 5 U.S.C. 552b.

Dated: August 23, 2021.
For the Nuclear Regulatory Commission.
Wesley W. Held,
Policy Coordinator, Office of the Secretary.

[FR Doc. 2021-18445 Filed 8-24-21; 11:15 am]

BILLING CODE 7590-01-P